DEPARTMENT OF DEFENSE

Office of the Secretary

[Transmittal No. 20-79]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 20-79, Policy Justification, and Sensitivity of Technology.

Dated: December 9, 2025.
Stephanie J. Bost,
Alternate OSD Federal Register Liaison Officer, Department of Defense.

BILLING CODE 6001-FR-P

BILLING CODE 6001-FR-C

Transmittal No. 20-79

Notice of Proposed Issuance of Letter of Offer Pursuant to Section 36(b)(1) of the Arms Export Control Act, as amended

(i) Prospective Purchaser: Government of the United Arab Emirates

(ii) Total Estimated Value:

Major Defense Equipment * | $1.15 billion
Other | $ .05 billion
TOTAL | $1.20 billion

Funding Source: National Funds

(iii) Description and Quantity or Quantities of Articles or Services under Consideration for Purchase:

Major Defense Equipment (MDE):

Two hundred fifty-nine (259) Guided Multiple Launch Rocket System (GMLRS) M31A1 Unitary Pods (1,554 missiles at six missiles per pod)

Two hundred three (203) Army Tactical Missile Systems (ATACMS) M57 Unitary Missiles

Non-MDE:

Also included are publications; personnel training and training equipment; software development; United States (U.S.) Government and contractor engineering, technical and logistics support services; and other related elements of logistical and program support.

(iv) Military Department: Army (AE-B-ZUZ)

(v) Prior Related Cases, if any: AE-B-ZVE

(vi) Sales Commission, Fee, etc., Paid, Offered, or Agreed to be Paid: None

(vii) Sensitivity of Technology Contained in the Defense Article or Defense Services Proposed to be Sold: See Attached Annex

(viii) Date Report Delivered to Congress: October 11, 2024

* as defined in Section 47(6) of the Arms Export Control Act.

POLICY JUSTIFICATION

United Arab Emirates—GMLRS and ATACMS Munitions

The Government of the United Arab Emirates has requested to buy two hundred fifty-nine (259) Guided Multiple Launch Rocket System (GMLRS) M31A1 Unitary Pods (1,554 missiles at six missiles per pod) and two hundred three (203) Army Tactical Missile Systems (ATACMS) M57 Unitary Missiles. Also included are publications; personnel training and training equipment; software development; U.S. Government and contractor engineering, technical and logistics support services; and other related elements of logistical and program support. The estimated total cost is $1.2 billion.

The proposed sale will support the foreign policy and national security objectives of the U.S. by helping to improve the security of an important regional partner. The United Arab Emirates has been, and continues to be, a vital U.S. partner for political stability and economic progress in the Middle East.

The proposed sale will improve the United Arab Emirates' capability to meet current and future threats by modernizing its armed forces. This sale will contribute to the United Arab Emirates' military goals of updating capability while further enhancing interoperability with the U.S. and other partners. The United Arab Emirates will have no difficulty absorbing these articles into its armed forces.

The proposed sale of this equipment and support will not alter the basic military balance in the region.

The principal contractor will be Lockheed Martin, Grand Prairie, TX. There are no known offset agreements proposed in connection with this potential sale.

Implementation of this proposed sale will require the temporary assignment of four (4) U.S. Government and four (4) U.S. contractor representatives to the United Arab Emirates for a duration of no longer than ten (10) days to support new software equipment training and the stockpile reliability program.

There will be no adverse impact on U.S. defense readiness as a result of this proposed sale.

Transmittal No. 20-79

Notice of Proposed Issuance of Letter of Offer and Acceptance Pursuant to Section 36(b)(1) of the Arms Export Control Act

Annex

Item No. vii

(vii) Sensitivity of Technology:

1. The Guided Multiple Launch Rocket System (GMLRS) is a solid propellant artillery rocket for the High Mobility Artillery Rocket System (HIMARS). GMLRS uses GPS-aided inertial guidance to accurately and quickly deliver a single high-explosive blast fragmentation warhead to targets. The GMLRS has an operational range of 15-70km.

2. The M57 Army Tactical Missile Systems (ATACMS) is a conventional, semi-ballistic missile for the High Mobility Artillery Rocket System (HIMARS). ATACMS is a guided by GPS-aided inertial navigation systems to provide precise targeting over ranges of up to 300km.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that the United Arab Emirates can provide substantially the same degree of protection for the sensitive technology being released as the U.S. Government. This sale is necessary in furtherance of the U.S. foreign policy and national security objectives outlined in the Policy Justification.

6. All defense articles and services listed in this transmittal have authorized for release and export to the Government of the United Arab Emirates.

[FR Doc. 2025-22605 Filed 12-11-25; 8:45 am]

BILLING CODE 6001-FR-P